DEPARTMENT OF COMMERCE

International Trade Administration

[A-570-970]

Multilayered Wood Flooring From the People's Republic of China: Preliminary Results of the Antidumping Duty Administrative Review, Preliminary Determination of No Shipments, and Rescission of Review, in Part; 2019-2020

AGENCY: Enforcement and Compliance, International Trade Administration, Department of Commerce.

SUMMARY: The Department of Commerce (Commerce) preliminarily determines that Jiangsu Senmao Bamboo and Wood Industry Co., Ltd. (Senmao) did not make sales of subject merchandise at less than normal value (NV), and that certain companies had no shipments of subject merchandise during the period of review (POR) December 1, 2019, through November 30, 2020. In addition, we are rescinding the review with respect to one company. We invite interested parties to comment on these preliminary results.

DATES: Applicable December 27, 2021.

FOR FURTHER INFORMATION CONTACT: Sergio Balbontin or Alexis Cherry, AD/CVD Operations, Office VIII, Enforcement and Compliance, International Trade Administration, U.S. Department of Commerce, 1401 Constitution Avenue NW, Washington, DC 20230; telephone: (202) 482-6478 or (202) 482-0607, respectively.

SUPPLEMENTARY INFORMATION:

Background

Commerce is conducting an administrative review of the antidumping duty order on multilayered wood flooring (MLWF) from the People's Republic of China (China).¹ The review covers 96 companies, including mandatory respondent, Senmao.

¹ See Initiation of Antidumping and Countervailing Duty Administrative Reviews, 86 FR 8166 (February 4, 2021); and Initiation of Antidumping and Countervailing Duty Administrative Reviews, 86 FR 17124 (April 1, 2021) (collectively, Initiation Notices).

For events that occurred since the Initiation Notice and the analysis behind our preliminary results herein, see the Preliminary Decision Memorandum.² The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is included as Appendix I to this notice.

² See Memorandum, “Decision Memorandum for the Preliminary Results of Antidumping Duty Administrative Review: Multilayered Wood Flooring from the People's Republic of China; 2019-2020,” dated concurrently with, and hereby adopted by, this notice (Preliminary Decision Memorandum).

Scope of the Order ³

³ See Multilayered Wood Flooring from the People's Republic of China: Notice of Amended Final Affirmative Determination of Sales at Less than Fair Value and Antidumping Duty Order, 76 FR 76690 (December 8, 2011), as amended in Multilayered Wood Flooring from the People's Republic of China, 77 FR 5484 (February 3, 2012) (collectively, Order).

The product covered by the Order is MLWF from China. For a complete description of the scope of this administrative review, see the Preliminary Decision Memorandum.

Partial Rescission of Review

On May 3, 2021, the American Manufacturers of Multilayered Wood Flooring (the petitioner) and Kingman Floors Co., Ltd. (Kingman Floors) timely withdrew their requests for review with respect to Kingman Floors.⁴ No other parties requested a review of this company. Accordingly, Commerce is rescinding the administrative review with respect to Kingman Floors.⁵

⁴ See Petitioner's Letter, “Withdrawal of Request for Administrative Review in Part”; and Kingman Floors' Letter, “Withdrawal of Request for Administrative Review of the Antidumping Duty Order,” both dated May 3, 2021.

⁵ See 19 CFR 351.213(d)(1).

Preliminary Determination of No Shipments

Based on an analysis of information from U.S. Customs and Border Protection (CBP), no shipment certifications, and other record information, we preliminarily determine that 41 companies had no shipments of subject merchandise during the POR. Consistent with our practice in non-market economy (NME) cases, we are not rescinding this review with respect to these companies but, rather, intend to complete the review and issue appropriate instructions to CBP based on the final results of the review.⁶

⁶ See Non-Market Economy Antidumping Proceedings: Assessment of Antidumping Duties, 76 FR 65694, 65694-95 (October 24, 2011) (NME AD Assessment); see also the “Assessment Rates” section, below.

Separate Rates

We preliminarily determine that, in addition to Senmao, 10 companies not individually-examined are eligible for separate rates in this administrative review.⁷ The Tariff Act of 1930, as amended (the Act) and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. For the preliminary results of this review, Commerce has determined the estimated dumping margin for Senmao to be zero.⁸ For the reasons explained in the Preliminary Decision Memorandum, we are assigning this rate to the non-examined respondents which qualify for a separate rate in this review.

⁷ See Appendix II; see also the Preliminary Decision Memorandum at the “Separate Rate Determinations” section for more details.

⁸ See Memorandum, “Preliminary Results Margin Calculation for Jiangsu Senmao Bamboo and Wood Industry Co., Ltd.,” dated concurrently with this notice.

The China-Wide Entity

Commerce's policy regarding conditional review of the China-wide entity applies to this administrative review.⁹ Under this policy, the China-wide entity will not be under review unless a party specifically requests, or Commerce self-initiates, a review of the entity. Because no party requested a review of the China-wide entity, the entity is not under review, and the entity's rate (i.e. 85.13 percent) is not subject to change. See the Preliminary Decision Memorandum for further discussion.

⁹ See Antidumping Proceedings: Announcement of Change in Department Practice for Respondent Selection in Antidumping Duty Proceedings and Conditional Review of the Nonmarket Economy Entity in NME Antidumping Duty Proceedings, 78 FR 65963 (November 4, 2013).

Aside from the companies for which we preliminarily find no shipments and the company for which the review is being rescinded, Commerce considers all other companies for which a review was requested and did not demonstrate separate rate eligibility to be part of the China-wide entity.¹⁰ For the preliminary results of this review, we consider 43 companies to be part of the China-wide entity.

¹⁰ See Initiation Notice (“All firms listed below that wish to qualify for separate rate status in the administrative reviews involving NME countries must complete, as appropriate, either a separate rate application or certification, as described below.”) Companies that are subject to this administrative review that are considered to be part of the China-wide entity are listed in Appendix II.

Methodology

We are conducting this administrative review in accordance with sections 751(a)(1)(B) of the Act and 19 CFR 351.213. We calculated export prices for Senmao in accordance with section 772(a) of the Act. Because China is an NME within the meaning of section 771(18) of the Act, we calculated NV in accordance with section 773(c) of the Act.

Preliminary Results of Review

We preliminarily determine that the following weighted-average dumping margins exist for the POR December 1, 2019, through November 30, 2020:

Exporters | Weighted- average dumping margin (percent)
Jiangsu Senmao Bamboo and Wood Industry Co., Ltd | 00.00
Non-Selected Companies Under Review Receiving a Separate Rate ¹¹ | 00.00

Disclosure and Public Comment

¹¹ See Appendix II.

We intend to disclose to interested parties the calculations performed for these preliminary results in accordance with 19 CFR 351.224(b). A timeline for the submission of case briefs and written comments will be provided to interested parties at a later date. Rebuttal briefs, limited to issues raised in case briefs, may be submitted no later than seven days after the deadline date for case briefs.¹² Pursuant to 19 CFR 351.309(c)(2) and (d)(2), parties who submit case briefs or rebuttal briefs in this review are encouraged to submit with each argument: (1) A statement of the issue; (2) a brief summary of the argument; and (3) a table of authorities. Executive summaries should be limited to five pages total, including footnotes. Case and rebuttal briefs should be filed using ACCESS ¹³ and must be served on interested parties.¹⁴ Note that Commerce has modified certain of its requirements for serving documents containing business proprietary information until further notice.¹⁵

¹² See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”)

¹³ See generally 19 CFR 351.303.

¹⁴ See 19 CFR 351.303(f).

¹⁵ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, filed electronically via Commerce's electric records system, ACCESS. An electronically-filed request must be received successfully in its entirety by 5:00 p.m. Eastern Time within 30 days after the date of publication of this notice.¹⁶ Requests should contain the party's name, address, and telephone number, the number of participants, whether any participant is a foreign national, and a list of the issues to be discussed. If a request for a hearing is made, Commerce intends to hold the hearing at a time and date to be determined.¹⁷ Parties should confirm by telephone the date and time of the hearing two days before the scheduled date.

¹⁶ See 19 CFR 351.310(c)

¹⁷ See 19 CFR 351.310(d).

Unless otherwise extended, we intend to issue the final results of this administrative review, which will include the results of our analysis of the issues raised in the case briefs, within 120 days of publication of these preliminary results in the Federal Register, pursuant to section 751(a)(3)(A) of the Act and 19 CFR 351.213(h).

Verification

As provided in section 782(i)(3) of the Act, Commerce intends to verify the information relied upon for its final results. Normally, Commerce verifies information using standard procedures, including an on-site examination of original accounting, financial, and sales documentation. However, due to current travel restrictions in response to the global COVID-19 pandemic, Commerce is unable to conduct on-site verification in this review. Accordingly, we intend to verify the information relied upon for the final results through alternative means in lieu of an on-site verification.

Assessment Rates

Upon issuance of the final results, Commerce will determine, and CBP shall assess, antidumping duties on all appropriate entries covered by this review, in accordance with 19 CFR 351.212(b). Commerce intends to issue assessment instructions to CBP 35 days after the publication of the final results of this review.

If Senmao's ad valorem weighted-average dumping margin is not zero or de minimis (i.e., less than 0.50 percent) in the final results of this review, Commerce will calculate importer-specific assessment rates on the basis of the ratio of the total amount of dumping calculated for the importer's examined sales and the total quantity of those sales, in accordance with 19 CFR 351.212(b)(1).¹⁸ Commerce will also calculate (estimated) ad valorem importer-specific assessment rates with which to assess whether the per-unit assessment rate is de minimis. We will instruct CBP to assess antidumping duties on all appropriate entries covered by this review when the importer-specific ad valorem assessment rate calculated in the final results of this review is not zero or de minimis.

¹⁸ In these preliminary results, Commerce applied the assessment rate calculation method adopted in Antidumping Proceedings: Calculation of the Weighted-Average Dumping Margin and Assessment Rate in Certain Antidumping Proceedings: Final Modification, 77 FR 8101 (February 14, 2012).

For the respondents that were not selected for individual examination in this administrative review that qualified for a separate rate, the assessment rate will be the separate rate established in the final results of this administrative review.

If, in the final results, Senmao's weighted-average dumping margin continues to be zero or de minimis (i.e., less than 0.5 percent), Commerce will instruct CBP to liquidate the appropriate entries without regard to antidumping duties.¹⁹ For entries that were not reported in the U.S. sales databases submitted by Senmao during this review, and for the 43 companies that do not qualify for a separate rate, Commerce will instruct CBP to liquidate such entries at the China-wide rate (i.e., 85.13 percent).²⁰ In addition, if we continue to find no shipments of subject merchandise for the 41 companies for which we preliminarily find no such shipments during the POR,²¹ any suspended entries of subject merchandise associated with those companies will be liquidated at the China-wide rate.²²

¹⁹ See 19 CFR 351.106(c)(2).

²⁰ See Multilayered Wood Flooring from the People's Republic of China: Final Results of Antidumping Duty Administrative Review and Final Determination of No Shipments; 2016-2017, 84 FR 38002 (August 5, 2019).

²¹ See Appendix II for a list of these companies.

²² See Non-Market Economy Antidumping Proceedings: Assessment of Antidumping Duties, 76 FR 65694, 65695 (October 24, 2011).

For the company for which the administrative review is rescinded, antidumping duties shall be assessed at a rate equal to the cash deposit of estimated antidumping duties required at the time of entry, or withdrawal from warehouse, for consumption, in accordance with 19 CFR 351.212(c)(1)(i).

We intend to issue appropriate assessment instructions with respect to the company for which this administrative review is rescinded to CBP 35 days after the publication of the final results in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for all shipments of the subject merchandise from China entered, or withdrawn from warehouse, for consumption on or after the publication date, as provided for by section 751(a)(2)(C) of the Act: (1) For the companies listed above that have a separate rate, the cash deposit rate will be that rate established in the final results of this review (except, if the rate is de minimis, then a cash deposit rate of zero will be required); (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 85.13 percent); and (4) for all non-Chinese exporters of subject merchandise that have not received their own rate, the cash deposit rate will be the rate applicable to Chinese exporter that supplied that non-Chinese exporter. These cash deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties.

We are issuing and publishing the preliminary results of this review in accordance with sections 751(a)(l) and 777(i)(l) of the Act and 19 CFR 351.221(b)(4).

Dated: December 17, 2021.
Ryan Majerus,
Deputy Assistant Secretary for Policy and Negotiations, Performing The Non-Exclusive Functions And Duties of The Assistant Secretary for Enforcement and Compliance.

Appendix I

List of Topics Discussed in the Preliminary Decision Memorandum

I. Summary

II. Background

III. Period of Review

IV. Scope of the Order

V. Selection of Respondents

VI. Preliminary Determination of No Shipments

VII. Discussion of the Methodology

VIII. Recommendation

Appendix II

No Shipments:
Anhui Longhua Bamboo Product Co., Ltd.
Arte Mundi (Shanghai) Aesthetic Home Furnishings Co., Ltd. (successor-in-interest to Scholar Home (Shanghai) New Material Co., Ltd.) ²³
Baroque Timber Industries (Zhongshan) Co., Ltd.
Benxi Wood Company
Dalian Deerfu Wooden Product Co., Ltd.
Dalian Jaenmaken Wood Industry Co., Ltd.
Dalian Jiahong Wood Industry Co., Ltd.
Dalian Shengyu Science And Technology Development Co., Ltd.
Dongtai Fuan Universal Dynamics, LLC
Dunhua City Dexin Wood Industry Co., Ltd.
Dunhua City Hongyuan Wood Industry Co., Ltd.
Dunhua City Jisen Wood Industry Co., Ltd.
Fine Furniture (Shanghai) Limited
HaiLin LinJing Wooden Products Co., Ltd.
Hunchun Xingjia Wooden Flooring Inc.
Huzhou Chenghang Wood Co., Ltd
Huzhou Fulinmen Imp. & Exp. Co., Ltd.
Huzhou Sunergy World Trade Co., Ltd.
Jiangsu Keri Wood Co., Ltd.
Jiangsu Mingle Flooring Co., Ltd
Jiangsu Simba Flooring Co., Ltd.
Jiangsu Yuhui International Trade Co., Ltd.
Jiashan On-Line Lumber Co., Ltd.
Jiaxing Hengtong Wood Co., Ltd.
Jilin Xinyuan Wooden Industry Co., Ltd.
Kember Flooring, Inc. (a.k.a. Kember Hardwood Flooring, Inc.)
Linyi Anying Wood Co., Ltd.
Linyi Youyou Wood Co., Ltd.
Muchsee Wood (Chuzhou) Co., Ltd.
Pinge Timber Manufacturing (Zhejiang) Co., Ltd.
Power Dekor Group Co., Ltd.
Sino-Maple (Jiangsu) Co., Ltd.
Suzhou Dongda Wood Co., Ltd.
Tongxiang Jisheng Import and Export Co., Ltd.
Yekalon Industry Inc.
Yihua Lifestyle Technology Co., Ltd. (successor-in-interest to Guangdong Yihua Timber Industry Co., Ltd.)
Yingyi-Nature (Kunshan) Wood Industry Co., Ltd.
Zhejiang Dadongwu Greenhome Wood Co., Ltd.
Zhejiang Longsen Lumbering Co., Ltd.
Zhejiang Shiyou Timber Co., Ltd.
Zhejiang Shuimojiangnan New Material Technology Co., Ltd.
China-Wide Entity:
A & W (Shanghai) Woods Co., Ltd.
Anhui Boya Bamboo & Wood Products Co., Ltd.
Anhui Yaolong Bamboo & Wood Products Co. Ltd.
Armstrong Wood Products (Kunshan) Co., Ltd.
Armstrong World Industries Inc.
Changzhou Hawd Flooring Co., Ltd.
Chinafloors Timber (China) Co., Ltd.
Dalian Dajen Wood Co., Ltd.
Dalian Guhua Wooden Product Co., Ltd.
Dalian Huade Wood Product Co., Ltd.
Dalian Huilong Wooden Products Co., Ltd.
Dalian Kemian Wood Industry Co., Ltd.
Dalian Qianqiu Wooden Product Co., Ltd., Fusong Jinlong Wooden Group Co., Ltd., Fusong Jinqiu Wooden Product Co., Ltd., and Fusong Qianqiu Wooden Product Co., Ltd. (collectively, Fusong Jinlong Group)
Dalian T-Boom Wood Products Co., Ltd.
Guangzhou Homebon Timber Manufacturing Co., Ltd.
Guangzhou Panyu Kangda Board Co., Ltd.
Guangzhou Panyu Southern Star Co., Ltd.
Hangzhou Hanje Tec Company Limited
Hangzhou Zhengtian Industrial Co., Ltd.
Hunchun Forest Wolf Wooden Industry Co., Ltd.
Huzhou Jesonwood Co., Ltd.
Innomaster Home (Zhongshan) Co., Ltd.
Jiafeng Wood (Suzhou) Co., Ltd.
Jilin Forest Industry Jinqiao Flooring Group Co., Ltd.
Karly Wood Product Limited
Kemian Wood Industry (Kunshan) Co., Ltd.
Linyi Bonn Flooring Manufacturing Co., Ltd.
Mudanjiang Bosen Wood Industry Co., Ltd.
Nakahiro Jyou Sei Furniture (Dalian) Co., Ltd.
Omni Arbor Solution Co., Ltd.
Power Dekor North America Inc.
Shandong Longteng Wood Co., Ltd.
Shanghai Lairunde Wood Co., Ltd.
Shanghaifloor Timber (Shanghai) Co., Ltd.
Shenyang Haobainian Wooden Co., Ltd.
Shenzhenshi Huanwei Woods Co., Ltd.
Xiamen Yung De Ornament Co., Ltd.
Xuzhou Antop International Trade Co., Ltd.
Xuzhou Shenghe Wood Co., Ltd.
Zhejiang Biyork Wood Co., Ltd.
Zhejiang Fudeli Timber Industry Co., Ltd.
Zhejiang Jiechen Wood Industry Co., Ltd.
Zhejiang Simite Wooden Co., Ltd.
Rescissions:
Kingman Floors Co., Ltd.
Non-Selected Companies Under Review Receiving a Separate Rate:
Benxi Flooring Factory (General Partnership)
Dalian Penghong Floor Products Co., Ltd./Dalian Shumaike Floor Manufacturing Co., Ltd.
Dun Hua Sen Tai Wood Co., Ltd.
Dunhua Shengda Wood Industry Co., Ltd
Jiangsu Guyu International Trading Co., Ltd
Jiashan HuiJiaLe Decoration Material Co., Ltd.
Kingman Wood Industry Co., Ltd.
Lauzon Distinctive Hardwood Flooring, Inc.
Metropolitan Hardwood Floors, Inc.
Zhejiang Fuerjia Wooden Co., Ltd.

²³ Arte Mundi Group Co. Ltd. (Arte Mundi Group), submitted a timely no shipment certification in which it reported that Arte Mundi Shanghai changed its name to Arte Mundi Group during the POR, however, the company did not respond to Commerce's successor-in-interest questionnaire. Therefore, we did not make a no-shipments determination with respect to Arte Mundi Group. See the Preliminary Determination Memorandum for further details.

[FR Doc. 2021-28069 Filed 12-23-21; 8:45 am]

BILLING CODE 3510-DS-P